FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011383-043.

Title: Venezuelan Discussion Agreement.

Parties: Hamburg-Süd, Seaboard Marine Ltd., King Ocean Service de Venezuela, and SeaFreight Line, Ltd.

Filing Party: Wayne R. Rohde, Esq.; Sher & Blackwell LLP; 1850 M Street, NW.; Suite 900; Washington, DC 20036.

Synopsis: The amendment would add Mediterranean Shipping Company S.A. as a party to the agreement.

Agreement No.: 011666-004.

Title: West Coast North America/Pacific Islands Vessel Sharing Agreement.

Parties: Hamburg-Süd and Polynesia Line Ltd.

Filing Party: Wayne R. Rohde, Esq.; Sher & Blackwell LLP; 1850 M Street, NW.; Suite 900; Washington, DC 20036.

Synopsis: The amendment reduces the required notice to resign from the agreement.

Agreement No.: 011722-004.

Title: New World Alliance/Maersk Line Slot Exchange Agreement.

Parties: A.P. Moller Maersk A/S; American President Lines, Ltd.; APL Co. PTE Ltd.; Mitsui O.S.K. Lines, Ltd., and Hyundai Merchant Marine Co., Ltd.

Filing Party: Wayne R. Rohde, Esquire; Sher & Blackwell LLP; 1850 M Street, NW., Suite 900; Washington, DC 20036.

Synopsis: The amendment would add the U.S. West Coast to the geographic scope of the agreement, revise vessel strings and allocations, and shorten the notice required to terminate the agreement.

By Order of the Federal Maritime Commission.
Dated: October 23, 2009.
Karen V. Gregory,
Secretary.

[FR Doc. E9-25982 Filed 10-27-09; 8:45 am]

BILLING CODE P